DEPARTMENT OF HEALTH AND HUMAN SERVICES

Administration for Children and Families

Submission for OMB Review; Comment Request

Title: Native Employment Works (NEW) Program Plan Guidance and Program Report.

OMB No.: 0970-0174.

Description: The Native Employment Works (NEW) program plan is the application for NEW program funding. As approved by the Department of Health and Human Services (HHS), it documents how the grantee will carry out its NEW program. The NEW program plan guidance specifies the information needed to complete a NEW program plan and explains the process for plan submission every third year.

The NEW program report provides information on the activities and accomplishments of grantees' NEW programs. The NEW program report and instructions specify the program data that NEW grantees report annually.

Respondents: Federally-recognized Indian tribes and tribal organizations that are NEW program grantees.

Annual Burden Estimates

Instrument | Number of respondents | Number of responses per respondent | Average burden hours per response | Total burden hours (annually)
NEW program plan guidance | 26 | One, every 3 years | 30 | 780
NEW program report | 53 | One, annually | 15 | 795
Estimated Total Annual Burden Hours | 1,575

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 10, 2003.
Robert Sargis,
Reports Clearance Officer.

[FR Doc. 03-6149 Filed 3-13-03; 8:45 am]

BILLING CODE 4184-01-M